DEPARTMENT OF COMMERCE

National Oceanic and Atmospheric Administration

[RTID 0648-XC129]

Takes of Marine Mammals Incidental to Specified Activities; Taking Marine Mammals Incidental to the U.S. Coast Guard's Floating Dock Extension Project at Base Ketchikan, Alaska

AGENCY: National Marine Fisheries Service (NMFS), National Oceanic and Atmospheric Administration (NOAA), Commerce.

ACTION: Notice; issuance of an incidental harassment authorization.

SUMMARY: In accordance with the regulations implementing the Marine Mammal Protection Act (MMPA) as amended, notification is hereby given that NMFS has issued an incidental harassment authorization (IHA) to the United States Coast Guard (USCG) to incidentally harass marine mammals during construction of the floating dock extension at Base Ketchikan, Alaska.

DATES: This Authorization is effective from July 1, 2022, through June 30, 2023.

FOR FURTHER INFORMATION CONTACT: Kim Corcoran, Office of Protected Resources, NMFS, (301) 427-8401.Electronic copies of the application and supporting documents, as well as a list of the references cited in this document, may be obtained online at: https://www.fisheries.noaa.gov/action/incidental-take-authorization-united-states-coast-guards-floating-dock-extension-project. In case of problems accessing these documents, please call the contact listed above.

SUPPLEMENTARY INFORMATION:

Background

The MMPA prohibits the “take” of marine mammals, with certain exceptions. sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed IHA may be provided to the public for review.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of the species or stocks for taking for certain subsistence uses (referred to in shorthand as “mitigation”); and requirements pertaining to the mitigation, monitoring and reporting of the takings are set forth.

The definitions of all applicable MMPA statutory terms cited above are included in the relevant sections below.

Summary of Request

On March 9, 2021, NMFS received a request from the USCG for an IHA to take marine mammals incidental to the construction of the floating dock extension at Base Ketchikan, Alaska. Following NMFS' review of the request, USCG provided additional information on July 22, 2021, and again on March 7, 2022. The application was deemed adequate and complete on the latter date. USCG's request is for take of ten species of marine mammals by Level B harassment and, for a subset of three species, by Level A harassment. Neither USCG nor NMFS expects serious injury or mortality to result from this activity and, therefore, an IHA is appropriate.

There have been no changes from the proposed to the final IHA.

Description of Activity

Overview

The USCG requested an IHA for activities associated with the construction of the Floating Dock Extension Project in the Tongass Narrows at Coast Guard Base Ketchikan (Base Ketchikan) in Ketchikan, Alaska. The project will cover a 12-month window during which approximately 30 days of pile-installation activity will occur. The project involves the installation of ten, 24-inch steel guide piles for a third floating dock section. Three different installation methods will be used including the Down-the-Hole (DTH) system to create rock sockets for new piles, vibratory installation of piles, and final pile proofing with limited use of impact pile driving. Sounds resulting from pile installation and drilling may result in the incidental take of marine mammals by Level A and Level B harassment in the form of auditory injury or behavioral harassment.

Dates and Duration

The IHA is effective from July 1, 2022 through June 30, 2023. The total expected work duration will be 15 construction days (5 days of DTH, 5 days of vibratory pile installation, and 5 days of impact pile driving) with an additional 15 day buffer to account for days where work is paused (e.g., inclement weather), for a total work window of 30 days. The USCG plans to conduct all work during daylight hours.

Specific Geographic Region

The activity will occur in the Tongass Narrows at Base Ketchikan in Ketchikan, Alaska (Figure 1). Base Ketchikan is located on the southwestern end of Revillagigedo Island, approximately 235 miles south of Juneau and 90 miles north of Prince Rupert, British Columbia. The Base is about 1 mile south of downtown Ketchikan, on the industrial limits of the city, and on the East Channel of the Tongass Narrows. The waters of the Tongass Narrows are heavily used by the public including cruise ships, commercial fishing vessels, and private craft and sea planes, which contribute significantly to the ambient acoustic environment in the Narrows.

BILLING CODE 3510-22-P

BILLING CODE 3510-22-C

Detailed Description of Specific Activity

USCG plans to install ten steel guide piles for a third floating dock section at Base Ketchikan to support the homeporting of a third Fast Response Cutter (FRC) (Figure 2). The piles will be installed over a period of 30 days, allotting five construction days to each of the three methods of installation, in addition to 15 additional buffer days to account for unforeseen interruptions (e.g., inclement weather). These methods include DTH, vibratory pile installation and pile proofing using an impact hammer (see Table 1).

Table 1—Pile Installation Methods and Durations
Installation method | Duration/impacts per pile | Piles driven/day | Estimated days
DTH | 60 minutes | 2 | 5.
Vibratory pile installation | 6 minutes | 2 | 5.
Impact driving pile proofing | 5 impacts | 2 | 5 (10 strikes).
Total |  |  | 15 (30).¹
¹ The total expected work duration is 15 days with an additional 15 day buffer to account for days where work is paused (e.g., inclement weather) for a total work window of 30 days.

A detailed description of the planned construction project was provided in the Federal Register notice for the proposed IHA (87 FR 30894; May 20, 2022). Since that time, no changes have been made to the planned construction activities. Therefore, a detailed description is not provided here. Please refer to that Federal Register notice for the description of the specific activity.

Mitigation, monitoring, and reporting measures are described in detail later in this document (please see Mitigation and Monitoring and Reporting).

Comments and Responses

A notice of NMFS' proposal to issue an IHA to USCG was published in the Federal Register on May 20, 2022 (87 FR 30894). That notice described, in detail, USCG's activities, the marine mammal species that may be affected by the activities, and the anticipated effects on marine mammals. In that notice, we requested public input on the request for authorization described therein, our analyses, the proposed authorization, and any other aspect of the notice of proposed IHA, and requested that interested persons submit relevant information, suggestions, and comments. This proposed notice was available for a 30-day public comment period.

The United States Geological Survey provided a letter stating that it had no comment. No other comments were received.

Description of Marine Mammals in the Area of Specified Activities

Sections 3 and 4 of the application summarize available information regarding status and trends, distribution and habitat preferences, and behavior and life history, of the potentially affected species. NMFS fully considered all of this information, and we refer the reader to these descriptions, incorporated here by reference, instead of reprinting the information. Additional information regarding population trends and threats may be found in NMFS's Stock Assessment Reports (SARs; https://www.fisheries.noaa.gov/national/marine-mammal-protection/marine-mammal-stock-assessments) and more general information about these species (e.g., physical and behavioral descriptions) may be found on NMFS's website (https://www.fisheries.noaa.gov/find-species).

Table 2 lists all species or stocks for which take is expected and authorized for this action, and summarizes information related to the population or stock, including regulatory status under the MMPA and Endangered Species Act (ESA) and potential biological removal (PBR), where known. PBR is defined by the MMPA as the maximum number of animals, not including natural mortalities, that may be removed from a marine mammal stock while allowing that stock to reach or maintain its optimum sustainable population (as described in NMFS's SARs). While no mortality is anticipated or authorized here, PBR and annual serious injury and mortality from anthropogenic sources are included here as gross indicators of the status of the species and other threats.

Marine mammal abundance estimates presented in this document represent the total number of individuals that make up a given stock or the total number estimated within a particular study or survey area. NMFS's stock abundance estimates for most species represent the total estimate of individuals within the geographic area, if known, that comprises that stock. For some species, this geographic area may extend beyond U.S. waters. All stocks managed under the MMPA in this region are assessed in NMFS' U.S. Alaska Stock Abundance Reports (SARs) (e.g., Muto et al., 2021). All values presented in Table 2 are the most recent available at the time of publication (including from the draft 2021 SARs) and are available online at: www.fisheries.noaa.gov/national/marine-mammal-protection/marine-mammal-stock-assessments).

Table 2—Species Likely Impacted by the Specified Activities
Common name | Scientific name | Stock | ESA/MMPA status; strategic (Y/N) ¹ | Stock abundance (CV, Nmin, most recent abundance survey) ² | PBR | Annual M/SI ³
Order Cetartiodactyla—Cetacea—Superfamily Mysticeti (baleen whales)
Family Eschrichtiidae:
Gray whale | Eschrichtius robustus | Eastern North Pacific Stock | -,-,N | 26,960 (0.05, 25,849, 2016) | 801 | 131
Family Balaenopteridae (rorquals):
Humpback whale | Megaptera novaeanglinae | Central North Pacific Stock | -,-,Y | 10,103 (0.3, 7,890, 2006) | 83 | 26
Minke whale | Balaenoptera acutorostrata | Alaska Stock | -,-,N | N/A (N/A, N/A, N/A) ⁴ | UND | 0
Superfamily Odontoceti (toothed whales, dolphins, and porpoises)
Family Delphinidae:
Killer whale | Orca orcinus | Alaska Resident | -,-,N | 2,347 (N/A, 2347, 2012) | 24 | 1
|  | Northern Resident | -,-,N | 302 (N/A, 302, 2018) | 2.2 | 0.2
|  | West Coast Transient | -,-,N | 349 (N/A, 349, 2018) | 3.5 | 0.4
Pacific white-sided dolphin | Lagenorhynchus obliquidens | North Pacific Stock | -,-,N | 26,880 (N/A, N/A,1990) | UND | 0
Family Phocoenidae (porpoises):
Dall's porpoise ⁵ | Phocoenoides dalli | Alaska Stock | -,-,N | 15,432 (0.097,13, 110, 2015) | 131 | 37
Harbor porpoise ⁶ | Phocoena phocoena | Southeast Alaska Stock | -,-,Y | 1302 (0.21, 1057, 2019) | 11 | 34
Order Carnivora—Superfamily Pinnipedia
Family Otariidae (eared seals and sea lions):
Steller sea lion | Eumetopias jubatus | Eastern Stock | -,-,N | 43,201 (N/A, 43,201, 2017) | 2592 | 112
Family Phocidae (earless seals):
Harbor seal | Phoca vituline richardii | Clarence Strait Stock | -,-,N | 27,659 (N/A, 24,854, 2015) | 746 | 40
Northern Elephant seal | Mirounga angustirostris | California Breeding Stock | -,-,N | 187,386 (N/A, 85,369, 2013) | 5122 | 5.3
¹ Endangered Species Act (ESA) status: Endangered (E), Threatened (T)/MMPA status: Depleted (D). A dash (-) indicates that the species is not listed under the ESA or designated as depleted under the MMPA. Under the MMPA, a strategic stock is one for which the level of direct human-caused mortality exceeds PBR or which is determined to be declining and likely to be listed under the ESA within the foreseeable future. Any species or stock listed under the ESA is automatically designated under the MMPA as depleted and as a strategic stock.
² NMFS marine mammal stock assessment reports online at: https://www.fisheries.noaa.gov/national/marine-mammal-protection/marine-mammal-stock-assessment-reports CV is coefficient of variation; Nmin is the minimum estimate of stock abundance.
³ These values, found in NMFS's SARs, represent annual levels of human-caused mortality plus serious injury from all sources combined (e.g., commercial fisheries, ship strike). Annual M/SI often cannot be determined precisely and is in some cases presented as a minimum value or range. A CV associated with estimated mortality due to commercial fisheries is presented in some cases.
⁴ No population estimates have been made for the number of minke whales in the entire North Pacific. Some information is available on the numbers of minke whales on some areas of Alaska, but in the 2009, 2013 and 2015 offshore surveys, so few minke whales were seen during the surveys that a population estimate for the species in this area could not be determined (Rone et al., 2017). Therefore, this information is N/A (not available).
⁵ Previous abundance estimates covering the entire stock's range are no longer considered reliable and the current estimates presented in the SARs and reported here only cover a portion of the stock's range. Therefore, the calculated Nmin and PBR is based on the 2015 survey of only a small portion of the stock's range. PBR is considered to be biased low since it is based on the whole stock whereas the estimate of mortality and serious injury is for the entire stock's range.
⁶ Abundance estimates assumed that detection probability on the trackline was perfect; work is underway on a corrected estimate. Additionally, preliminary data results based on eDNA analysis show genetic differentiation between harbor porpoise in the northern and southern regions on the inland waters of southeast Alaska. Geographic delineation is not yet known. Data to evaluate population structure for harbor porpoise in Southeast Alaska have been collected and are currently being analyzed. Should the analysis identify different population structure than is currently reflected in the Alaska SARs, NMFS will consider how to best revise stock designations in the future.

As indicated above, all ten species (with twelve managed stocks) in Table 2 temporally and spatially co-occur with the activity to the degree that take is reasonably likely to occur, and we have authorized it. Fin whale could potentially occur in the area, however there are no known sightings nearby and USCG will shut down activity prior to a whale entering the harassment zones. Therefore, given the former and the rarity of the species, take is not expected to occur and they are not discussed further.

In addition, the northern sea otter (Enhydra lutris kenyoni) may be found in the Tongass Narrows. However, northern sea otters are managed by the U.S. Fish and Wildlife Service and are not considered further in this document.

A detailed description of the species likely to be affected by USCG's project, including brief introductions to species and relevant stocks as well as available information regarding population trends and threats, and information regarding local occurrence, were provided in the Federal Register notice for the proposed IHA (87 FR 30894; May 20, 2022); since that time, we are not aware of any changes in the status of these species and stocks; therefore, detailed descriptions are not provided here. Please refer to that Federal Register notice for these descriptions.

Potential Effects of Specified Activities on Marine Mammals and Their Habitat

The effects of underwater noise from the Navy's construction activities have the potential to result in harassment of marine mammals in the vicinity of the survey area. The notice of proposed IHA (87 FR 30894; May 20, 2022) included a discussion of the effects of underwater noise from the USCG's activity on marine mammals and their habitat. That information and analysis is incorporated by reference into the final IHA determination and is not repeated here; please refer to the notice of proposed authorization (87 FR 30894; May 20, 2022).

Estimated Take

This section provides an estimate of the number of incidental takes authorized through the IHA, which will inform both NMFS' consideration of “small numbers” and the negligible impact determinations.

Harassment is the only type of take expected to result from these activities. Except with respect to certain activities not pertinent here, section 3(18) of the MMPA defines “harassment” as any act of pursuit, torment, or annoyance, which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Authorized takes will primarily be by Level B harassment, as use of the acoustic sources (i.e., vibratory or impact pile driving and DTH) has the potential to result in disruption of behavioral patterns for individual marine mammals. There is also some potential for auditory injury (Level A harassment) to result, primarily for porpoises and harbor seals, due to the cryptic nature of these species in context of larger predicted auditory injury zones. Auditory injury is unlikely to occur for low- and mid-frequency species and otariids, based on the relatively small predicted zones for the latter two groups and because of the expected ease of detection for the former group. The mitigation and monitoring measures are expected to minimize the severity of the taking to the extent practicable.

As described previously, no mortality is anticipated or authorized for this activity. Below we describe how the take is estimated.

Generally speaking, we estimate take by considering: (1) acoustic thresholds above which NMFS believes the best available science indicates marine mammals will be behaviorally harassed or incur some degree of permanent hearing impairment; (2) the area or volume of water that will be ensonified above these levels in a day; (3) the density or occurrence of marine mammals within these ensonified areas; and, (4) and the number of days of activities. We note that while these basic factors can contribute to a basic calculation to provide an initial prediction of takes, additional information that can qualitatively inform take estimates is also sometimes available (e.g., previous monitoring results or average group size). Below, we describe the factors considered here in more detail and present the take estimate.

Acoustic Thresholds

NMFS recommends the use of acoustic thresholds that identify the received level of underwater sound above which exposed marine mammals would be reasonably expected to be behaviorally harassed (equated to Level B harassment) or to incur PTS of some degree (equated to Level A harassment). Thresholds have also been developed identifying the received level of in-air sound above which exposed pinnipeds would likely be behaviorally harassed.

Level B Harassment for non-explosive sources—Though significantly driven by received level, the onset of behavioral disturbance from anthropogenic noise exposure is also informed to varying degrees by other factors related to the source (e.g., frequency, predictability, duty cycle), the environment (e.g., bathymetry), and the receiving animals (hearing, motivation, experience, demography, behavioral context) and can be difficult to predict (Southall et al., 2007, Ellison et al., 2012). Based on what the available science indicates and the practical need to use a threshold based on a factor that is both predictable and measurable for most activities, NMFS uses a generalized acoustic threshold based on received level to estimate the onset of behavioral harassment. NMFS predicts that marine mammals are likely to be behaviorally harassed in a manner we consider Level B harassment when exposed to underwater anthropogenic noise above received levels of 120 dB re 1 microPascal (μPa) (rms) for continuous (e.g., vibratory pile-driving, drilling) and above 160 dB re 1 μPa (rms) for non-explosive impulsive (e.g., seismic airguns) or intermittent (e.g., scientific sonar) sources. USCG's activity includes the use of continuous (vibratory hammer and DTH) and impulsive (DTH and impact pile-driving), and therefore the 120 and 160 dB re 1 μPa (rms) are applicable.

Level A harassment for non-explosive sources—NMFS' Technical Guidance for Assessing the Effects of Anthropogenic Sound on Marine Mammal Hearing (Version 2.0) (Technical Guidance, 2018) identifies dual criteria to assess auditory injury (Level A harassment) to five different marine mammal groups (based on hearing sensitivity) as a result of exposure to noise from two different types of sources (impulsive or non-impulsive). USCG's activity includes the use of impulsive (impact pile-driving and DTH) and non-impulsive (vibratory hammer and DTH) sources.

These thresholds are provided in Table 3 below. The references, analysis, and methodology used in the development of the thresholds are described in NMFS 2018 Technical Guidance, which may be accessed at https://www.fisheries.noaa.gov/national/marine-mammal-protection/marine-mammal-acoustic-technical-guidance.

Table 3—Thresholds Identifying the Onset of Permanent Threshold Shift
Hearing group | PTS onset acoustic thresholds * (received level): Impulsive | PTS onset acoustic thresholds * (received level): Non-impulsive
Low-Frequency (LF) Cetaceans | Cell 1: Lpk,flat: 219 dB; LE,LF,24h: 183 dB | Cell 2: LE,LF,24h: 199 dB.
Mid-Frequency (MF) Cetaceans | Cell 3: Lpk,flat: 230 dB; LE,MF,24h: 185 dB | Cell 4: LE,MF,24h: 198 dB.
High-Frequency (HF) Cetaceans | Cell 5: Lpk,flat: 202 dB; LE,HF,24h: 155 dB | Cell 6: LE,HF,24h: 173 dB.
Phocid Pinnipeds (PW) (Underwater) | Cell 7: Lpk,flat: 218 dB; LE,PW,24h: 185 dB | Cell 8: LE,PW,24h: 201 dB.
Otariid Pinnipeds (OW) (Underwater) | Cell 9: Lpk,flat: 232 dB; LE,OW,24h: 203 dB | Cell 10: LE,OW,24h: 219 dB.
* Dual metric acoustic thresholds for impulsive sounds: Use whichever results in the largest isopleth for calculating PTS onset. If a non-impulsive sound has the potential of exceeding the peak sound pressure level thresholds associated with impulsive sounds, these thresholds should also be considered.
Note: Peak sound pressure (Lpk) has a reference value of 1 μPa, and cumulative sound exposure level (LE) has a reference value of 1μPa²s. In this Table, thresholds are abbreviated to reflect American National Standards Institute standards (ANSI 2013). However, peak sound pressure is defined by ANSI as incorporating frequency weighting, which is not the intent for this Technical Guidance. Hence, the subscript “flat” is being included to indicate peak sound pressure should be flat weighted or unweighted within the generalized hearing range. The subscript associated with cumulative sound exposure level thresholds indicates the designated marine mammal auditory weighting function (LF, MF, and HF cetaceans, and PW and OW pinnipeds) and that the recommended accumulation period is 24 hours. The cumulative sound exposure level thresholds could be exceeded in a multitude of ways (i.e., varying exposure levels and durations, duty cycle). When possible, it is valuable for action proponents to indicate the conditions under which these acoustic thresholds will be exceeded.

Ensonified Area

Here, we describe operational and environmental parameters of the activity that will feed into identifying the area ensonified above the acoustic thresholds, which include source levels and transmission loss coefficient.

The sound field in the project area is the existing background noise plus additional construction noise from the project. Marine mammals are expected to be affected via sound generated by the primary components of the project (i.e., impact pile driving, vibratory pile driving, vibratory pile removal, and DTH).

In order to calculate distances to the Level A harassment and Level B harassment sound thresholds for the methods and piles being used in this project, NMFS used acoustic monitoring data from other locations to develop source levels for the various pile types, sizes and methods (Table 4).

Table 4—Observed Source Levels for Pile Installation and Removal
Activity | Peak SPL (re 1 μPa (rms)) | RMS SPL (re 1 μPa (rms)) | SEL (re 1 μPa (rms)) | Source
DTH (24-inch Steel Pipe) | 184 | 167 | 159 | Heyvaert & Reyff, 2021.
Vibratory (24-inch Steel Pipe) * | 175 | 162 | 160 | Denes et al., 2016.
Impact (24-Inch Steel Pipe) | 207 | 194 | 178 | Caltrans 2020.
Note: SELss = single strike sound exposure level; RMS = root mean square.
* Source levels used here differ from those used in USCG's application.

When the NMFS Technical Guidance (2016) was published, in recognition of the fact that ensonified area/volume could be more technically challenging to predict because of the duration component in the new thresholds, we developed a User Spreadsheet that includes tools to help predict a simple isopleth that can be used in conjunction with marine mammal density or occurrence to help predict takes. We note that because of some of the assumptions included in the methods used for these tools, we anticipate that isopleths produced are typically going to be overestimates of some degree, which may result in some degree of overestimate of Level A harassment take. However, these tools offer the best way to predict appropriate isopleths when more sophisticated 3D modeling methods are not available, and NMFS continues to develop ways to quantitatively refine these tools, and will qualitatively address the output where appropriate. For stationary sources such as vibratory and impact pile driving, vibratory removal and DTH, NMFS User Spreadsheet predicts the distance at which, if a marine mammal remained at that distance the whole duration of the activity, it would incur PTS. Inputs used in the User Spreadsheet are reported in Table 1 and source levels used in the User Spreadsheet are reported in Table 4. Resulting isopleths are reported in Table 5.

Table 5—Level A and Level B Harassment Isopleths for Impact Pile Driving
Activity | Level A harassment isopleths (PTS) (meters): LF | Level A harassment isopleths (PTS) (meters): MF | Level A harassment isopleths (PTS) (meters): HF | Level A harassment isopleths (PTS) (meters): Phocids | Level A harassment isopleths (PTS) (meters): Otariids | Level B harassment isopleths (m)
DTH (24-inch Steel Pipe) | 434.1 | 15.4 | 517.1 | 232.3 | 16.9 | 13594
Vibratory (24-inch Steel Pipe) | 1 | 0.1 | 1.5 | 0.6 | 0.1 | * 6310
Impact (24-inch Steel Pipe) | 21.5 | 0.8 | 25.6 | 11.5 | 0.8 | 1848
* Differs from USCG's application due to difference in source level use. See Table 4.

Marine Mammal Occurrence and Take Calculation and Estimation

In this section we provide the information about the presence, density, or group dynamics of marine mammals that will inform the take calculations. We also describe how the information provided above is brought together to produce a quantitative take estimate.

Available information regarding marine mammal occurrence and abundance in the vicinity of USCG Base Ketchikan includes monitoring reports from prior incidental take authorizations (the Tongass Narrows project (85 FR 673; January 7, 2020)) and ESA consultations on additional projects and is described below for each species. A summary of authorized take is in Table 6.

Steller Sea Lions

Steller sea lions are anticipated to occur in the vicinity of Base Ketchikan in the Tongass Narrows. As Base Ketchikan is far enough east of the line dividing the Eastern and Western stocks, only members of the Eastern Stock of Steller sea lions are anticipated to occur at Base Ketchikan. Sightings of Steller sea lions are expected to occur once a day with the total number of Steller sea lions in the project area reaching up to 10 animals. The project involves 30 days of potential in-water work. Therefore, we estimate total take at 10 sea lions × 30 days = 300 takes at the Level B harassment level. Because the shutdown zone is small and Steller sea lions are not cryptic, we believe the Level A harassment shutdown zone can be fully implemented by Protected Species Observers (PSOs) and no Level A harassment take is authorized.

Harbor Seal

Harbor seals are anticipated to occur in the project area once per day. The typical number of harbor seals observed in the project area is up to 12 animals per day. We estimate total take at 12 seals × 30 days of activity = 360 takes. Because of the relatively large Level A harassment zones for impact pile driving and DTH, and because harbor seals are small and cryptic species that could sometimes remain undetected within the estimated harassment zones for a duration sufficient to experience PTS, we authorize 10 takes (1 seal per day for the expected 10 days of impact pile driving and DTH) by Level A harassment, and 350 takes by Level B harassment, with total authorized take equal to 360.

Dall's Porpoise

Previous construction project monitoring in the Ketchikan area reported approximately two Dall's porpoises per day (NMFS, 2021). Therefore, we estimate total take at 2 porpoises per day × 30 days = 60 takes. Forty of these takes are expected to be Level B harassment takes. Because Dall's porpoises are small and cryptic species and could sometimes remain undetected within the estimated harassment zones for a duration sufficient to experience PTS, we authorize 20 takes by Level A harassment.

Harbor Porpoise

Harbor porpoises are expected to occur in the project area no more than three times per month and the typical group size for harbor porpoises in the project area is 5 animals. The project involves 30 days (1 month) of in-water work where take could occur. Therefore, we estimate total take at 5 porpoises × 3 sightings = 15 takes. Because harbor porpoises are small and cryptic species and could remain undetected within the estimated harassment zones for a duration sufficient to experience PTS, we authorize 5 takes by Level A harassment and 10 takes by Level B harassment.

Pacific White-Sided Dolphin

Previous construction project monitoring in the Ketchikan area reported approximately 2.86 Pacific white-sided dolphins per day (reported value of 20 dolphins over one week of monitoring) (NMFS, 2021). Therefore we estimate 2.86 dolphins × 30 days = 86 takes. All of these takes are expected to be by Level B harassment as we believe the Level A shutdown zones can be fully implemented by PSOs due to their large group size, short dive duration, and easy detection of Pacific white-sided dolphins, in addition to the smaller size of the shutdown zones.

Killer Whale

Killer whales are expected to occur in the project area no more than once per month. Typically a group size for killer whales in the project area is conservatively estimated at 10 animals, which equates to 0.4 animals per day. Therefore, we estimate total take at 0.4 whales × 30 days = 12 takes. All of these takes are expected to be Level B harassment takes as we believe the Level A shutdown zones can be fully implemented by PSOs because of the large size of the animal, short dive duration, and obvious behavior of killer whales, in additional to the small size of the shutdown zones.

Gray Whale

Gray whales are expected to occur no more than once per month. Typical group size for gray whales in the project area is two animals. Therefore, we conservatively authorize a single group size for the full 30 days of activity. All of these takes are expected to be by Level B harassment as we believe the Level A harassment shutdown zone can be fully implemented by PSOs because of the large size of the animal, short dive duration, and obvious behaviors of gray whales.

Minke Whales

Minke whales have not been previously observed in the project area but have a potential to occur. They are often solitary animals. Therefore, we conservatively authorize a single take of minke whales. This one estimated take is expected to be by Level B harassment as we believe the Level A shutdown zones can be fully implemented by PSOs because of the large size of the animal, the short dive duration, and obvious behaviors of minke whales.

Northern Elephant Seals

Members of the California breeding stock spend most of their time at sea and are known to migrate to the Gulf of Alaska to feed on benthic prey. Recent anecdotal evidence has suggested that an animal may be present near Base Ketchikan and repeated sightings of that individual have been spotted near Ketchikan docks. Elephant seals are known to dive for extended periods of time and it is possible that one individual may be encountered within the Level B harassment zone. Therefore one estimated take by Level B harassment per day is authorized, bring the total authorized take of Elephant seals to 30. We believe the entire Level A shutdown zone can be fully implemented given their large size and obvious behaviors of elephant seals.

Humpback Whales

Members of the Western North Pacific stock have the potential to occur at Base Ketchikan. Previous construction project monitoring in the Ketchikan area reported approximately 0.571 whales per day during those activities (NMFS, 2021). Therefore, we estimate total take at 0.571 whales per day × 30 days = 17 takes by Level B harassment only. We do not anticipate any takes by Level A harassment as we believe the Level A shutdown zone can be fully implemented by PSOs because of their larger size, short dive duration, and obvious behaviors of humpback whales.

Given data in Wade et al., (2021) discussed above on the relative frequencies of the Hawaii and Mexico DPS humpback whales in the project area, only 2 percent of the local population is expected to comprise of the Mexico DPS, equating to 0.34 of the 17 humpback whale takes for authorization. Therefore, no takes of Mexico DPS whales are expected to occur.

Table 6—Authorized Amount of Taking
Species | Stock | Level A | Level B | Total | Percent of stock
Humpback whale | Central North Pacific | 0 | 17 | 17 | 0.17
Minke whale | Alaska | 0 | 1 | 1 | N/A
Killer whale | Alaska Resident | 0 | 12 | 12 | 0.51
| Northern Resident |  |  |  | 3.97
| West Coast Transient |  |  |  | 3.44
Pacific-white sided dolphin | North Pacific | 0 | 86 | 86 | 0.32
Harbor porpoise | Southeast Alaska | 5 | 10 | 15 | 0.13
Dall's porpoise | Alaska Stock | 20 | 40 | 60 | 0.46
Gray whale | Eastern North Pacific | 0 | 2 | 2 | 0.01
Harbor seal | Clarence Strait | 10 | 340 | 360 | 1.30
Northern Elephant Seal | California Breeding Stock | 0 | 30 | 30 | 0.00
Steller sea lion | Eastern | 0 | 300 | 300 | 0.69

Mitigation

In order to issue an IHA under section 101(a)(5)(D) of the MMPA, NMFS must set forth the permissible methods of taking pursuant to the activity, and other means of effecting the least practicable impact on the species or stock and its habitat, paying particular attention to rookeries, mating grounds, and areas of similar significance, and on the availability of the species or stock for taking for certain subsistence uses. NMFS regulations require applicants for incidental take authorizations to include information about the availability and feasibility (economic and technological) of equipment, methods, and manner of conducting the activity or other means of effecting the least practicable adverse impact upon the affected species or stocks and their habitat (50 CFR 216.104(a)(11)).

In evaluating how mitigation may or may not be appropriate to ensure the least practicable adverse impact on species or stocks and their habitat, as well as subsistence uses where applicable, we carefully consider two primary factors:

(1) The manner in which, and the degree to which, the successful implementation of the measure(s) is expected to reduce impacts to marine mammals, marine mammal species or stocks, and their habitat, as well as subsistence uses. This considers the nature of the potential adverse impact being mitigated (likelihood, scope, range). It further considers the likelihood that the measure will be effective if implemented (probability of accomplishing the mitigating result if implemented as planned), the likelihood of effective implementation (probability implemented as planned), and;

(2) The practicability of the measures for applicant implementation, which may consider such things as cost, impact on operations, and, in the case of a military readiness activity, personnel safety, practicality of implementation, and impact on the effectiveness of the military readiness activity.

To ensure no take of any ESA listed whales, there are a number of mitigation measures required through the IHA that go beyond, or are in addition to, typical mitigation measures we would otherwise require for this project, as determined through informal ESA Section 7 consultation. The mitigation measures in the IHA include:

• Avoid direct physical interaction with marine mammals during construction activity. If a marine mammal comes within 10 m of such activity, operations must cease and vessels must reduce speed to the minimum level required to maintain steerage and safe working conditions (note that NMFS expects that a 10 m shutdown zone is sufficient to avoid direct physical interaction with marine mammals, but USCG will implement a 20 m shutdown zone to avoid physical interaction for in-water activities);

• Ensure that construction supervisors and crews, the monitoring team, and relevant USCG staff are trained prior to the start of all pile driving and DTH activity, so that responsibilities, communication procedures, monitoring protocols, and operational procedures are clearly understood. New personnel joining during the project must be trained prior to commencing work;

• Pile driving activity must be halted upon observation of either a species for which incidental take is not authorized or a species for which incidental take has been authorized but the authorized number of takes has been met, entering or within the harassment zone;

• For any marine mammal species for which take by Level B harassment has not been requested or authorized, in-water pile installation/removal and DTH will shut down immediately when the animals are sighted;

• Employ a minimum of three PSOs for all DTH and pile driving activities, where one PSO is assigned to the active pile driving or DTH site to monitor shutdown zones and as much of the Level B harassment zones as possible. Two additional PSOs are required to start at the project site and travel along the Tongass Narrows, counting all humpback whales present, until they have reached the edge of the respective Level B harassment zone. At this point, the PSOs will identify suitable observation points from which to observe the width of Tongass Narrows for the duration of DTH and pile driving activities. For the largest zones, these are expected to be on South Tongass Highway near Mountain Point and North Tongass Highway just northwest of the intersection with Carlanna Creek.

• The placement of the PSOs during all pile driving and removal and DTH activities will ensure that the entire shutdown zone is visible during activity;

• Monitoring must take place from 30 minutes prior to initiation of pile driving or DTH activity (i.e., pre-clearance monitoring) through 30 minutes post-completion of pile driving or DTH activity;

• If in-water work ceases for more than 30 minutes, USCG will conduct pre-clearance monitoring of both the Level B harassment zone and the shutdown zone;

• Pre-start clearance monitoring must be conducted during periods of visibility sufficient for the lead PSO to determine that the shutdown zones indicated in Table 7 are clear of marine mammals. Pile driving and DTH may commence following 30 minutes of observation when the determination is made that the shutdown zones are clear of marine mammals;

• If a marine mammal is observed entering or within the shutdown zones indicated in Table 7, pile driving and DTH must be delayed or halted. If pile driving is delayed or halted due to the presence of a marine mammal, the activity may not commence or resume until either the animal has voluntarily exited and been visually confirmed beyond the shutdown zone (Table 7) or 15 minutes have passed without re-detection of the animal (30 minutes for large cetaceans);

• For humpback whales, if the boundaries of the harassment zone have not been monitored continuously during a work stoppage, the entire harassment zone will be surveyed again to ensure that no humpback whales have entered the harassment zone that were not previously accounted for; and

• In water activities will take place only: Between civil dawn and civil dusk when PSOs can effectively monitor for the presence of marine mammals; during conditions with a Beaufort Sea State of 4 or less; when the entire shutdown zone and adjacent waters are visible (e.g., monitoring effectiveness in not reduced due to rain, fog, snow, etc.). Pile driving may continue for up to 30 minutes after sunset during evening civil twilight, as necessary to secure a pile for safety prior to demobilization during this time. The length of the post- activity monitoring period may be reduced if darkness precludes visibility of the shutdown and monitoring zones.

The following specific mitigation measures must also apply to USCG's in-water construction activities:

Establishment of Level A Harassment and Shutdown Zones—For all pile driving/removal and DTH activities, USCG will establish a shutdown zone (Table 7). The purpose of a shutdown zone is generally to define an area within which shutdown of activity will occur upon sighting of marine mammal (or in anticipation of an animal entering the defined area). Shutdown zones vary based on activity type and duration and marine mammal hearing group (Table 7). All shutdown zones are based on the Level A harassment isopleth for the associated activity. The placement of PSOs during all construction activities (described in detail in the Monitoring and Reporting Section) will ensure that the entire shutdown zones are visible during pile installation.

Table 7—Shutdown Zones and Level B Harassment Isopleths
Activity | Shutdown zone (m): Low- frequency | Shutdown zone (m): Mid- frequency | Shutdown zone (m): High- frequency | Shutdown zone (m): Phocid | Shutdown zone (m): Otariid | Level B harassment zone (m)
Vibratory | 20 | 20 | 20 | 20 | 20 | 13594
DTH | 440 | 20 | 520 | 240 | 20 | 6310
Impact | 30 | 20 | 30 | 20 | 20 | 1848

Based on our evaluation of the applicant's measures, as well as other measures considered by NMFS, NMFS has determined that the mitigation measures provide the means effecting the least practicable impact on the affected species or stocks and their habitat, paying particular attention to rookeries, mating grounds, and areas of similar significance.

Monitoring and Reporting

In order to issue an IHA for an activity, section 101(a)(5)(D) of the MMPA states that NMFS must set forth requirements pertaining to the monitoring and reporting of such taking. The MMPA implementing regulations at 50 CFR 216.104 (a)(13) indicate that requests for authorizations must include the suggested means of accomplishing the necessary monitoring and reporting that will result in increased knowledge of the species and of the level of taking or impacts on populations of marine mammals that are expected to be present in the action area. Effective reporting is critical both to compliance as well as ensuring that the most value is obtained from the required monitoring.

Monitoring and reporting requirements prescribed by NMFS should contribute to improved understanding of one or more of the following:

• Occurrence of marine mammal species or stocks in the area in which take is anticipated (e.g., presence, abundance, distribution, density).

• Nature, scope, or context of likely marine mammal exposure to potential stressors/impacts (individual or cumulative, acute or chronic), through better understanding of: (1) action or environment (e.g., source characterization, propagation, ambient noise); (2) affected species (e.g., life history, dive patterns); (3) co-occurrence of marine mammal species with the action; or (4) biological or behavioral context of exposure (e.g., age, calving or feeding areas).

• Individual marine mammal responses (behavioral or physiological) to acoustic stressors (acute, chronic, or cumulative), other stressors, or cumulative impacts from multiple stressors.

• How anticipated responses to stressors impact either: (1) long-term fitness and survival of individual marine mammals; or (2) populations, species, or stocks.

• Effects on marine mammal habitat (e.g., marine mammal prey species, acoustic habitat, or other important physical components of marine mammal habitat).

• Mitigation and monitoring effectiveness.

Visual Monitoring

Monitoring must be conducted by qualified, NMFS-approved PSOs, in accordance to the following:

• PSOs must be independent (i.e., not construction personnel) and have no other assigned tasks during monitoring periods. At least one PSO must have prior experience performing the duties of a PSO during construction activities pursuant to a NMFS-issued IHA. Other PSOs may substitute other relevant experience, education (degree in biological science or related field), or training for prior experience performing the duties of a PSO during construction activity pursuant to a NMFS-issued IHA. Where a team of three or more PSOs is required, a lead observer or monitoring coordinator must be designated. The lead observer must have prior experience performing the duties of a PSO during construction activity pursuant to a NMFS-issued incidental take authorization. PSOs must be approved by NMFS prior to beginning any activity subject to this IHA; and

• PSOs must record all observations of marine mammals regardless of distance from the pile being driven. PSOs shall document any behavioral reactions in concert with distance from piles being driven or removed.

PSOs must have the following additional qualifications:

• Ability to conduct field observations and collect data according to assigned protocols;

• Experience or training in the field identification of marine mammals, including the identification of behaviors;

• Sufficient training, orientation, or experience with the construction operation to provide for personal safety during observations;

• Writing skills sufficient to prepare a report of observations including but not limited to the number and species of marine mammals observed; dates and times when in-water construction activities were conducted; dates, times and reason for implementation of mitigation (or why mitigation was not implemented when required); and marine mammal behavior; and

• Ability to communicate orally, by radio or in person, with project personnel to provide real-time information on marine mammals observed in the area as necessary.

USCG must employ three PSOs during all pile driving and DTH activities. A minimum of one PSO (the lead PSO) must be assigned to the active pile driving or DTH location to monitor the shutdown zones and as much of the Level B harassment zones as possible. Two additional PSOs are also required. The additional PSOs will start at the project site and travel along Tongass Narrows, counting all humpback whales present, until they have reached the edge of the respective Level B harassment zone. At this point, the PSOs will identify suitable observation points from which to observe the width of Tongass Narrows for the duration of DTH and pile driving activities. For the largest zones, these are expected to be on the South Tongass Highway near Mountain Point and north Tongass Highway just northwest of the intersection with Carlanna Creek. If visibility deteriorates so that the entire width of Tongass Narrows at the harassment zone boundary is not visible, additional PSOs may be positioned so that the entire width is visible, or work will be halted until the entire width is visible to ensure that any humpback whales entering or are within the harassment zone are detected by PSOs.

Reporting

A draft marine mammal monitoring report will be submitted to NMFS within 90 days after the completion of pile driving and removal activities, or 60 days prior to a requested date of issuance from any future IHAs for projects at the same location, whichever comes first. The report will include an overall description of work completed, a narrative regarding marine mammal sightings, and associated PSO data sheets. Specifically, the report must include:

• Dates and times (begin and end) of all marine mammal monitoring;

• Construction activities occurring during each daily observation period, including the number and type of piles driven or removed and by what method (i.e., impact, vibratory or DTH) and the total equipment duration for vibratory removal or DTH for each pile or hole or total number of strikes for each pile (impact driving);

• PSO locations during marine mammal monitoring;

• Environmental conditions during monitoring periods (at beginning and end of PSO shift and whenever conditions change significantly), including Beaufort sea state and any other relevant weather conditions including cloud cover, fog, sun glare, and overall visibility to the horizon, and estimated observable distance;

• Upon observation of a marine mammal, the following information: Name of PSO who sighted the animal(s) and PSO location and activity at the time of sighting; Time of sighting; Identification of the animal(s) (e.g., genus/species, lowest possible taxonomic level, or unidentifiable), PSO confidence in identification, and the composition of the group if there is a mix of species; Distance and bearing of each marine mammal observed relative to the pile being driven for each sightings (if pile driving was occurring at time of sighting); Estimated number of animals (min/max/best estimate); Estimated number of animals by cohort (adults, juveniles, neonates, group composition, sex class, etc.); Animal's closest point of approach and estimated time spent within the harassment zone; Description of any marine mammal behavioral observations (e.g., observed behaviors such as feeding or traveling), including an assessment of behavioral responses thought to have resulted from the activity (e.g., no response or changes in behavioral state such as ceasing feeding, changing direction, flushing, or breaching);

• Number of marine mammals detected within the harassment zones and shutdown zones; by species;

• Detailed information about any implementation of any mitigation triggered (e.g., shutdowns and delays), a description of specific actions that ensured, and resulting changes in behavior of the animal(s), if any; and

• If visibility degrades to where PSO(s) cannot view the entire harassment zones, additional PSOs may be positioned so that the entire width is visible, or work will be halted until the entire width is visible to ensure that any humpback whales entering or within the harassment zone are detected by PSOs.

If no comments are received from NMFS within 30 days, the draft final report will constitute the final report. If comments are received, a final report addressing NMFS comments must be submitted within 30 days after receipt of comments.

Reporting Injured or Dead Marine Mammals

In the event that personnel involved in the construction activities discover an injured or dead marine mammal, the IHA-holder must immediately cease the specified activities and report the incident to the Office of Protected Resources (OPR) (PR.ITP.MonitoringReports@noaa.gov), NMFS and to the Alaska Regional Stranding Coordinator as soon as feasible. If the death or injury was clearly caused by the specified activity, USCG must immediately cease the specified activities until NMFS is able to review the circumstances of the incident and determine what, if any, additional measures are appropriate to ensure compliance with the terms of the IHA. The IHA-holder must not resume their activities until notified by NMFS. The report must include the following information:

• Time, date, and location (latitude/longitude) of the first discovery (and updated location information if known and applicable);

• Species identification (if known) or description of the animal(s) involved;

• Condition of the animal(s) (including carcass condition if the animal is dead);

• Observed behaviors of the animal(s), if alive;

• If available, photographs or video footage of the animal(s); and

• General circumstances under which the animal was discovered.

Negligible Impact Analysis and Determination

NMFS has defined negligible impact as an impact resulting from the specified activity that cannot be reasonably expected to, and is not reasonably likely to, adversely affect the species or stock through effects on annual rates of recruitment or survival (50 CFR 216.103). A negligible impact finding is based on the lack of likely adverse effects on annual rates of recruitment or survival (i.e., population-level effects). An estimate of the number of takes alone is not enough information on which to base an impact determination. In addition to considering estimates of the number of marine mammals that might be “taken” through harassment, NMFS considers other factors, such as the likely nature of any responses (e.g., intensity, duration), the context of any responses (e.g., critical reproductive time or location, migration), as well as effects on habitat, and the likely effectiveness of the mitigation. We also assess the number, intensity, and context of estimated takes by evaluating this information relative to population status. Consistent with the 1989 preamble for NMFS's implementing regulations (54 FR 40338; September 29, 1989), the impacts from other past and ongoing anthropogenic activities are incorporated into this analysis via their impacts on the environmental baseline (e.g., as reflected in the regulatory status of the species, population size and growth rate where known, ongoing sources of human-caused mortality, or ambient noise levels).

To avoid repetition, our analysis applies to all species listed in Table 2 for which take could occur, given that NMFS expects the anticipated effects of pile driving/removal and DTH on different marine mammal stocks to be similar in nature. Where there are meaningful differences between species or stocks, or groups of species, in anticipated individual responses to activities, impact of expected take on the population due to differences in population status, or impacts on habitat, NMFS has identified species-specific factors to inform the analysis.

Pile driving and DTH activities associated with the project, as outlined previously, have the potential to disturb or displace marine mammals. Specifically, the specified activities may result in take, in the form of Level B harassment and, for some species, Level A harassment from underwater sounds generated by pile driving. Potential takes could occur if individuals are present in the ensonified zone when these activities are underway.

The Level A harassment zones identified in Table 5 are based upon an animal exposed to impact pile driving or DTH up to two piles per day. Given the short duration to impact drive or vibe, or use DTH drilling, each pile and break between pile installations (to reset equipment and move piles into place), an animal would have to remain within the area estimated to be ensonified above the Level A harassment threshold for multiple hours. This is highly unlikely give marine mammal movement in the area. If an animal was exposed to accumulated sound energy, the resulting PTS would likely be small (e.g., PTS onset) at lower frequencies where pile driving energy is concentrated, and unlikely to result in impacts to individual fitness, reproduction, or survival.

The nature of the pile driving project precludes the likelihood of serious injury or mortality. For all species and stock, take would occur within a limited, confined area (adjacent to the project site) of the stock's range. Level A and Level B harassment will be reduced to the level of least practicable adverse impact through use of mitigation measures described herein. Further, the amount of take authorized is extremely small when compared to stock abundance.

Behavioral responses of marine mammals to pile driving, pile removals, and DTH at the sites in Tongass Narrows are expected to be mild, short term, and temporary. Marine mammals within the Level B harassment zones may not show any visual cues they are disturbed by activities or they could become alert, avoid the area, leave the area, or display other mild responses that are not observable such as changes in vocalization patterns. Given that pile driving, pile removal and DTH will occur for only a portion of the project's duration, any harassment occurring would be temporary. Additionally, many of the species present in region would only be present temporarily based on seasonal patterns or during transit between other habitats. These temporary present species would be exposed to even smaller periods of noise-generating activity, further decreasing the impacts.

For all species except humpback whales, there are no known Biologically Important Areas (BIAs) near the project area that would be impacted by USCG's planned activities. For humpback whales, the whole Southeast of Alaska is a seasonal BIA from March through November (Ferguson et al., 2015), however, Tongass Narrows and the Clarence Strait are not important portions of this habitat due to human development and presence. The Tongass Narrows is also a small passageway and represents a very small portion of the total available habitat. In addition, while the southeast Alaska is considered an important area for feeding humpback whales between March and May (Ellison et al., 2012), it is not currently designated as critical habitat for humpback whales (86 FR 21082; April 21, 2021).

In addition, it is unlikely that minor noise effects in a small, localized area of habitat would have any effect on each stock's ability to recover. In combination, we believe that these factors, as well as the available body of evidence from other similar activities, demonstrate that the potential effects of the specified activities will have only minor, short-term effects on individuals. The specified activities are not expected to impact rates of recruitment or survival and will therefore not result in population-level impacts.

In summary and as described above, the following factors primarily support our determination that the impacts resulting from this activity are not expected to adversely affect the species or stock through effects on annual rates of recruitment or survival:

• No mortality is anticipated or authorized.

• Authorized Level A harassment will be very small amounts and of low degree;

• The only known area of specific biological importance covers a broad area of southeast Alaska for humpback whales, and the project area is a very small portion of that BIA. No other known areas of particular biological importance to any of the affected species or stocks are impacted by the activity, including ESA-designated critical habitat;

• For all species, the Tongass Narrows is a very small and peripheral part of their range;

• USCG will implement mitigation measures including soft-starts and shutdown zones to minimize the numbers of marine mammals exposed to injurious levels of sound, and to ensure that take by Level A harassment is, at most, a small degree of PTS;

• Monitoring reports from similar work in the Tongass Narrows have documented little to no effect on individuals of the same species impacted by the specified activity.

Based on the analysis contained herein of the likely effects of the specified activity on marine mammals and their habitat, and taking into consideration the implementation of the monitoring and mitigation measures, NMFS finds that the total marine mammal take from the activity will have a negligible impact on all affected marine mammal species or stocks.

Small Numbers

As noted above, only small numbers of incidental take may be authorized under sections 101(a)(5)(A) and (D) of the MMPA for specified activities other than military readiness activities. The MMPA does not define small numbers and so, in practice, where estimated numbers are available, NMFS compares the number of individuals taken to the most appropriate estimation of abundance of the relevant species or stock in our determination of whether an authorization is limited to small numbers of marine mammals. When the predicted number of individuals to be taken is fewer than one third of the species or stock abundance, the take is considered to be of small numbers. Additionally, other qualitative factors may be considered in the analysis, such as the temporal or spatial scale of the activities.

The amount of take NMFS has authorized is below one third of the estimated stock abundance for all species (in fact, take of individuals is less than five percent of the abundance of the affected stocks, see Table 6). This is likely a conservative estimate because we assume all takes are of different individual animals, which is likely not the case. Some individuals may return multiple times in a day, but PSOs will count them as separate takes if they cannot be individually identified.

The most recent estimate for the Alaska stock of Dall's porpoise was 13,110 animals however this number just accounts for a portion of the stock's range. Therefore, the 60 takes of this stock authorized is believed to be an even smaller portion of the overall stock abundance.

Likewise, the Southeast Alaska stock of harbor porpoise has no official NMFS abundance estimate as the most recent estimate is greater than eight years old. The most recent estimate was 11,146 animal (Muto et al., 2021) and it is highly unlikely this number has drastically declined. Therefore, the 15 takes of this stock authorized clearly represent small numbers of this stock.

There is no current or historical estimate of the Alaska minke whale stock, but there are known to be over 1,000 minke whales in the Gulf of Alaska (Muto et al., 2018) so the 1 take authorized clearly represents small numbers of this stock. Additionally, the range of the Alaska stock of minke whales is extensive, stretching from the Canadian Pacific coast to the Chukchi Sea, and USCG's project area impacts a very small portion of this range. Therefore, the singular take of minke whale authorized is small relative to estimated survey abundance, even if each take occurred to a new individual.

Based on the analysis contained herein of the activity (including the mitigation and monitoring measures) and the anticipated take of marine mammals, NMFS finds that small numbers of marine mammals will be taken relative to the population size of the affected species or stocks.

Unmitigable Adverse Impact Analysis and Determination

In order to issue an IHA, NMFS must find that the specified activity will not have an “unmitigable adverse impact” on the subsistence uses of the affected marine mammal species or stocks by Alaskan Natives. NMFS has defined “unmitigable adverse impact” in 50 CFR 216.103 as an impact resulting from the specified activity: (1) That is likely to reduce the availability of the species to a level insufficient for a harvest to meet subsistence needs by: (i) Causing the marine mammals to abandon or avoid hunting areas; (ii) Directly displacing subsistence users; or (iii) Placing physical barriers between the marine mammals and the subsistence hunters; and (2) That cannot be sufficiently mitigated by other measures to increase the availability of marine mammals to allow subsistence needs to be met.

Alaska Native hunters in the Ketchikan vicinity do not traditionally harvest cetaceans (Muto et al., 2021). To date, there are no reports of subsistence takes of killer whale, Pacific white-sided dolphin, harbor porpoise, or Dall's porpoise within Alaska (Muto et al., 2021). Harbor seals are the most commonly targeted marine mammal that is hunted by Alaska Native subsistence hunters within the Ketchikan area. In 2012, an estimated 595 harbor seals were taken for subsistence uses, with 22 of those occurring in Ketchikan (Wolfe et al., 2013). Statewide data are no longer being consistently collected for subsistence harvest of Steller sea lions, however subarea collect does occur periodically. In 2012, hunters in Southeast Alaska took an estimated nine sea lions for subsistence use (Wolfe et al., 2013). Sea lions were taken in two communities (Hoonah and Sitka) by three hunters. There are no known haulout locations in the project area. Both the harbor seal and Steller sea lion may be temporarily displaced from the action are However, neither the local population nor any individual pinniped are likely to be adversely impacted by the action beyond noise-induced harassment or slight injury. The project is anticipated to have no long-term impacts on either species' populations, or their habitats. No long-term impacts on the availability of marine mammals for subsistence uses is anticipated.

Based on the description of the specified activity, the measures described to minimize adverse effects on the availability of marine mammals for subsistence purposes, and the mitigation and monitoring measures, NMFS has determined that there will not be an unmitigable adverse impact on subsistence uses from USCG's activities.

Endangered Species Act

Section 7(a)(2) of the Endangered Species Act of 1973 (ESA: 16 U.S.C. 1531 et seq.) requires that each Federal agency insure that any action it authorizes, funds, or carries out is not likely to jeopardize the continued existence of any endangered or threatened species or result in the destruction or adverse modification of designated critical habitat. To ensure ESA compliance for the issuance of IHAs, NMFS consults internally whenever we authorize take for endangered or threatened species, in this case with the Alaska Regional Office.

No incidental take of ESA-listed species is authorized or expected to result from this activity. Therefore, NMFS has determined that formal consultation under section 7 of the ESA is not required for this action.

National Environmental Policy Act

To comply with the National Environmental Policy Act of 1969 (NEPA; 42 U.S.C. 4321 et seq.) and NOAA Administrative Order (NAO) 216-6A, NMFS must review our action (i.e., the issuance of an IHA) with respect to potential impacts on the human environment.

This action is consistent with categories of activities identified in Categorical Exclusion B4 (IHAs with no anticipated serious injury or mortality) of the Companion Manual for NOAA Administrative Order 216-6A, which do not individually or cumulatively have the potential for significant impacts on the quality of the human environment and for which we have not identified any extraordinary circumstances that would preclude this categorical exclusion. Accordingly, NMFS has determined that the issuance of the IHA qualifies to be categorically excluded from further NEPA review.

Authorization

As a result of these determinations, NMFS has issued an IHA to the United States Coast Guard for the potential harassment of small numbers of ten marine mammal species incidental to the floating dock extension construction project at Base Ketchikan, Alaska, that includes the previously explained mitigation, monitoring and reporting requirements.

Dated: June 28, 2022.
Kimberly Damon-Randall,
Director, Office of Protected Resources, National Marine Fisheries Service.

[FR Doc. 2022-14137 Filed 6-30-22; 8:45 am]

BILLING CODE 3510-22-P